DEPARTMENT OF THE INTERIOR

National Park Service

General Management Plan, Draft Environmental Impact Statement, Devils Tower National Monument, Wyoming

AGENCY: National Park Service, Department of the Interior.

ACTION: Availability of draft environmental impact statement and general management plan for devils tower national monument.

SUMMARY: Pursuant to section 102(2)(C) of the National Environmental Policy Act of 1969, the National Park Service announces the availability of a Draft Environmental Impact Statement and General Management Plan (DEIS/GMP) for Devils Tower National Monument, Wyoming.

Date: The DEIS/GMP will remain available for public review until August 31, 2001.

Comments: If you wish to make comments, you may submit them by any one of several methods. You may mail comments to Devils Tower National Monument, Planning Team, P.O. Box 10, Devils Tower, WY, 82714. You may also send comments by email to: deto—planning@nps.gov. If you do not receive a confirmation from the system that we have received your email message, you may contact Chris Moos [(307) 467-5283 ext 15)] at Devils Tower National Monument. Finally, you may hand-deliver comments to Park Headquarters/Administration Office, Devils Tower National Monument. Please include your name and return address regardless of the method you choose to make comments. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

ADDRESSES: Copies of the DEIS/GMP are available from the Superintendent, Devils Tower National Monument, P.O. Box 10, Devils Tower, WY, 82714. Public reading copies of the DEIS/GMP will be available for review at the following locations:

Office of the Superintendent, Park Headquarters (Administration Office), Devils Tower National Monument, P.O. Box 10, Devils Tower, WY, 827124, Telephone: (307) 467-5283.

Planning and Environmental Quality, Intermountain Support Office— Denver, National Park Service, 12795 West Alameda Parkway, P.O. Box 25287, Denver, CO 80225-0287, Telephone: (303) 969-2851 [or (303) 969-2377].

Office of Public Affairs, National Park Service, Department of the Interior, 18th and C Streets NW, Washington, D.C. 20240, Telephone: (202) 208-6843.

SUPPLEMENTARY INFORMATION: The DEIS/GMP analyzes a “no-action” alternative and 4 “action” alternatives:

• Alternative 1 (the no-action alternative) represents the continuation of existing conditions and management at the monument.

• Alternative 2 would reduce overall development to improve the monument's natural setting; institute a reservation system during periods of peak visitation; convert the parking area at the base of the Tower to a pedestrian plaza; selectively restore natural vegetation; improve trail accessibility; and reduce the size of the Belle Fourche River campground.

• Alternative 3 (the NPS preferred alternative) would institute a shuttle system for use during peak visitation periods; construct a shuttle staging area and visitor orientation facilities within the monument; convert the parking area at the base of the Tower to a pedestrian plaza; remove the Belle Fourche River campground and restore/revegetate disturbed areas; construct and reconfigure trails.

• Alternative 4 would also institute a shuttle system, but would construct/relocate staging and visitor orientation facilities, along with headquarters and maintenance facilities, outside the monument boundaries; convert the parking area at the base of the Tower to a pedestrian plaza; retain camping in a portion of the Belle Fourche River campground; convert another part of the campground to a shuttle stop with visitor facilities; construct and reconfigure trails.

• Alternative 5 would continue to offer visitor experiences similar to those presently available, but would expand, pave, and upgrade parking areas and roads, and/or add facilities to reduce visitor congestion.

The DEIS/GMP evaluates the environmental consequences of the proposed action and the other alternatives on natural resources (e.g. air quality, soils, vegetation, wildlife, wetlands, floodplains, threatened and endangered species); cultural resources (e.g. ethnographic resources of importance to American Indian tribes, Civilian Conservation Corps-constructed roadway features, etc.); the visitor experience; and socioeconomic resources (e.g. local businesses, construction-related employment, etc.).

FOR FURTHER INFORMATION CONTACT: Contact Superintendent, Devils Tower National Monument, at the above address and telephone number.

Dated: June 14, 2001.
Jack Neckels,
Director, Intermountain Region, National Park Service.

[FR Doc. 01-16497 Filed 6-29-01; 8:45 am]

BILLING CODE 4310-70-P